DEPARTMENT OF ENERGY

Federal Energy Regulatory Commission

[Docket No. TS17-2-000]

American Municipal Power, Inc.; Notice of Filing

Take notice that on August 28, 2017, pursuant to sections 35.28(e)(2)and 358.1(d) and Rules 101(e) and 207 of the Federal Energy Regulatory Commission's (Commission) Rules of Practice and Procedure,¹ American Municipal Power, Inc. filed a petition requesting that the Commission waive reciprocity-based standards of conduct and Open Access Same-Time Information System requirements that might otherwise apply under Order Nos. 889 ² and 717.³

¹ 18 CFR 35.28(e)(2), 358.1(d), 385.101(e), 385.207.

² Open Access Same-Time Information System (formerly Real-Time Information Networks) and Standards of Conduct, Order No. 889, 61 FR 21,737 (May 10, 1996), FERC Stats. & Regs. 31,035 (1996), clarified, 76 FERC 61,009 (1996), modified, Order No. 889-A, 62 FR 12,484 (Mar. 14, 1997), FERC Stats. & Regs. 31,049 (1997), reh'g denied, Order No. 889-B, 81 FERC 61,253 (1997), aff'd in part and remanded in part sub nom. Transmission Access Policy Study Grp. v. FERC, 225 F.3d 667 (D.C. Cir. 2000), aff'd sub nom. New York v. FERC, 535 U.S. 1 (2002).

³ Standards of Conduct for Transmission Providers, Order No. 717, 73 FR 63,796 (Oct. 27, 2008), FERC Stats. & Regs. 31,280 (2008), on reh'g, Order No. 717-A, 74 FR 54,463 (Oct. 22, 2009), FERC Stats. & Regs. 31,297 (2009), clarified, Order No. 717-B, 129 FERC 61,123 (2009), on reh'g, Order No. 717-C, 131 FERC 61,045 (2010), on reh'g and clarification, Order No. 717-D, 135 FERC 61,017 (2011).

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the eFiling link at http://www.ferc.gov. Persons unable to file electronically should submit an original and 5 copies of the protest or intervention to the Federal Energy Regulatory Commission, 888 First Street, NE., Washington, DC 20426.

This filing is accessible on-line at http://www.ferc.gov, using the eLibrary link and is available for review in the Commission's Public Reference Room in Washington, DC. There is an eSubscription link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on September 18, 2017.

Dated: August 29, 2017.
Kimberly D. Bose,
Secretary.

[FR Doc. 2017-18736 Filed 9-1-17; 8:45 am]

BILLING CODE 6717-01-P